Title 3—

The President

Proclamation 10946 of May 27, 2025

101st Anniversary of the United States Border Patrol

By the President of the United States of America

A Proclamation

For 101 years, members of the United States Border Patrol (USBP) have courageously served as guardians of our sovereignty and protectors of our homeland against invasion, aggression, and violence. Every day, Border Patrol agents selflessly risk their lives to repel the flow of deadly drugs, weapons, criminals, and terrorists—many of whom come to our shores from jails, prisons, and mental institutions in far-flung countries across the globe. On this anniversary of the United States Border Patrol, we honor every agent for their honorable service and pledge to support them in their mission to keep Americans safe.

For decades, the USBP has maintained the thin line between order and chaos. Unfortunately, the last administration—in an extraordinary act of deception and betrayal, imported an army of unvetted illegal aliens, including violent criminals, thugs, gang members, and terrorists from the darkest and most dangerous parts of the world. Their arrival over the last 4 years ushered in record-shattering levels of immigrants illegally coming into our country while at the same time depleting resources and draining the morale of our incredible USBP agents.

The tide turned on January 20, 2025. One of my first actions as President was declaring a National Emergency at the southern border of the United States, which provided additional authority to the Department of Defense to support the Federal Government's response to the crisis. I also designated cartels and other transnational organizations, such as Tren de Aragua and MS-13, as foreign terrorist organizations and Specially Designated Global Terrorists in order to end their campaign of violence and bloodshed on our homeland. Additionally, I have resumed our border wall construction, reinstated the Remain in Mexico policy, halted the practice of catch-and-release, ended asylum for illegal border crossers, deployed thousands of American soldiers to defend and protect our borders, and implemented the largest deportation operation in the history of our country.

Within my first 100 days in office, daily border encounters dropped 95 percent, and migrant crossings declined by an astounding 99.99 percent. In March, our Nation saw the lowest monthly number of border encounters in recorded history—and fentanyl traffic fell by 54 percent compared to March of the previous year. Also in my first 100 days, my Administration arrested more than 150,000 and deported more than 135,000 illegal aliens. Under my leadership, our USBP agents are not only receiving the resources they need to do their job but also the respect they have earned and deserve—and our work is only just beginning.

As we celebrate 101 years of the USBP, we honor the thousands of patriots who dedicate their careers to defending our borders and upholding the rule of law, even in the face of grave danger and tremendous risk. Above all, we pay tribute to every brave soul who has perished in the line of duty while proudly serving our Nation. In their memory, and in honor of their beloved family members, we pledge to empower the USBP to safeguard the American homeland today, tomorrow, and beyond.

NOW, THEREFORE, I, DONALD J. TRUMP, President of the United States of America, by virtue of the authority vested in me by the Constitution and the laws of the United States, do hereby proclaim May 28, 2025, as a day in celebration of the 101st Anniversary of the United States Border Patrol.

IN WITNESS WHEREOF, I have hereunto set my hand this twenty-seventh day of May, in the year of our Lord two thousand twenty-five, and of the Independence of the United States of America the two hundred and forty-ninth.

[FR Doc. 2025-10070

Filed 5-30-25; 8:45 am]

Billing code 3395-F4-P